DEPARTMENT OF EDUCATION

[Docket No.: ED-2013-ICCD-0060]

Agency Information Collection Activities; Submission to the Office of Management and Budget for Review and Approval; Comment Request; Promoting Student Success in Algebra I Project

AGENCY: Office of Elementary and Secondary Education (OESE), Department of Education (ED).

ACTION: Notice.

SUMMARY: In accordance with the Paperwork Reduction Act of 1995 (44 U.S.C. chapter 3501 et seq.), ED is proposing a new information collection.

DATES: Interested persons are invited to submit comments on or before May 2, 2014.

ADDRESSES: Comments submitted in response to this notice should be submitted electronically through the Federal eRulemaking Portal at http://www.regulations.gov by selecting Docket ID number ED-2013-ICCD-0060 or via postal mail, commercial delivery, or hand delivery. If the regulations.gov site is not available to the public for any reason, ED will temporarily accept comments at ICDocketMgr@ed.gov. Please note that comments submitted by fax or email and those submitted after the comment period will not be accepted; ED will ONLY accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E115, Washington, DC 20202.

FOR FURTHER INFORMATION CONTACT: For specific questions related to collection activities, please contact Ivonne Jaime, 202-260-1519.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Promoting Student Success in Algebra I Project.

OMB Control Number: 1810—NEW.

Type of Review: A new information collection.

Respondents/Affected Public: State, Local, or Tribal Governments.

Total Estimated Number of Annual Responses: 314.

Total Estimated Number of Annual Burden Hours: 162.

Abstract: The Promoting Student Success in Algebra I (PSSA) study aims to provide policy-makers and practitioners with a deeper understanding of how instructional practices, professional development, instructional coaching, curriculum alignment, and expanded learning/double-dose algebra can serve as possible avenues for improving student success in mathematics and particularly Algebra I, a critical gateway course for which student success is a strong predictor of high-school graduation.

The PSSA study will incorporate research findings, school-based perspectives from education practitioners, and case studies of district and school sites that are implementing exemplary initiatives in the five topical areas that represent common leverage points for addressing student needs in mathematics. This work will make an important contribution by producing actionable information for educators and policymakers about how to promote success in Algebra I for all students while simultaneously increasing the demands on teacher effectiveness and student performance in preparation for the Common Core State Standards for Mathematics (CCSSM). The study centers around three major research questions as follows:

(1) What is the evidence to support practices or strategies in the areas of instructional practices, professional development, instructional coaching, curricular alignment, and expanded learning/double-dose algebra for promoting student success in Algebra I?

(2) What do district- and school-based representatives think about evidence for practices or strategies in these areas?

(3) What does exemplary implementation of each practice or strategy look like in districts or schools with demonstrated improvement in student outcomes?

The subject of this OMB clearance request is PSSA's series of five topical area case studies (Research Question #3). The case studies are designed to address five focused sets of case study research questions that are grounded in the study's overall conceptual framework. These research questions explore factors associated with the successful implementation of programs or initiatives in each of the five topical areas, including (a) actions taken to implement the program/initiative; (b) processes used to develop and select the program/initiative; (c) contextual factors that enable and constrain successful implementation; and (d) indicators that are used to describe the effectiveness of the program/initiative.

Dated: March 27, 2014.
Tomakie Washington,
Acting Director, Information Collection Clearance Division, Privacy, Information and Records Management Services, Office of Management.

[FR Doc. 2014-07309 Filed 4-1-14; 8:45 am]

BILLING CODE 4000-01-P